DEPARTMENT OF HEALTH AND HUMAN SERVICES

Indian Health Service

Privacy Act of 1974; Report of Modified or Altered System—Indian Health Service Scholarship and Loan Repayment Programs

Correction

In notice document 07-501 beginning on page 5446 in the issue of Tuesday, February 6, 2007, make the following correction:

On page 5449, in the third column, in the second full paragraph, in the first line, “IHS may disclose” should read “7. IHS may disclose”.

[FR Doc. C7-501 Filed 2-26-07; 8:45 am]

BILLING CODE 1505-01-D

DEPARTMENT OF THE INTERIOR

Minerals Management Service

Outer Continental Shelf (OCS), Eastern Gulf of Mexico (GOM), Oil and Gas Lease Sale 224 for 2008

Correction

In notice document E7-2498 beginning on page 7070 in the issue of Wednesday, February 14, 2007, make the following correction:

On page 7073, the graphic at the bottom of the page is being reprinted to appear as set forth below.

[FR Doc. Z7-2498 Filed 2-26-07; 8:45 am]

BILLING CODE 1505-01-D